DEPARTMENT OF COMMERCE

National Oceanic and Atmospheric Administration

RIN 0648-XZ02

North Pacific Fishery Management Council; Public Meeting

AGENCY: National Marine Fisheries Service (NMFS), National Oceanic and Atmospheric Administration (NOAA), Commerce.

ACTION: Notice of a public meeting of the North Pacific Fishery Management Council and Alaska Board of Fisheries Joint Protocol Committee.

SUMMARY: The North Pacific Fishery Management Council (Council) Joint Protocol Committee of the Alaska Board of Fisheries and Council will meet on in Anchorage, AK.

DATES: The meeting will be held on October 5, 2010, from 1 p.m. to 5 p.m.

ADDRESSES: The meeting will be held at the Captain Cook Hotel, 939 West 5th Avenue, Quarterdeck (Tower 1, 10th Floor) Anchorage, AK.

Council address: North Pacific Fishery Management Council, 605 W. 4th Ave., Suite 306, Anchorage, AK 99501-2252.

FOR FURTHER INFORMATION CONTACT: Council staff; telephone: (907) 271-2809.

SUPPLEMENTARY INFORMATION: The Committee will review the following: pending actions for Annual Catch Limits (ACLs) for crab and scallops; background on Council sector split action and jig fishery for Gulf (GOA) of Alaska Pacific cod fishery management; Board schedule for accepting State regulatory proposals for coordination with pending federal GOA action; ACL requirements and Fishery Management Plan (FMP) considerations for Salmon; proposals and agenda change requests of common interest; recent federal action on salmon bycatch actions; pending action on Hagemeister Island walrus protection; pending action on closure areas to reduce GOA Tanner crab bycatch; status of the Steller Sea Lion Biological Opinion.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

This meeting is physically accessible to people with disabilities. Requests for sign language interpretation or other auxiliary aids should be directed to Gail Bendixen at (907) 271-2809 at least 7 working days prior to the meeting date.

Dated: September 9, 2010.
Tracey L. Thompson,
Acting Director, Office of Sustainable Fisheries, National Marine Fisheries Service.

[FR Doc. 2010-22865 Filed 9-13-10; 8:45 am]

BILLING CODE 3510-22-S